DEPARTMENT OF HEALTH AND HUMAN SERVICES

National Institutes of Health

Prospective Grant of an Exclusive Patent License: In Vivo Manufactured Anti-CD19 Chimeric Antigen Receptor (CAR) Products for the Treatment or Prevention of B Cell Mediated Autoimmune Diseases; Correction

AGENCY: National Institutes of Health, HHS.

ACTION: Notice; correction.

SUMMARY: The Department of Health and Human Services, National Institutes of Health published a Notice in the Federal Register on February 20, 2025. That notice requires a correction in the SUMMARY section.

SUPPLEMENTARY INFORMATION:

Correction

In the Federal Register of February 20, 2026, in FR Doc. 2026-03337, on page 8261, in the third column, the first sentence of the SUMMARY section is corrected to read: “The Department of Health and Human Services, National Institutes of Health published a Notice in the Federal Register on February 13, 2025.”

Alycia Booth,
NIH Federal Register Certifying Official, National Institutes of Health.

[FR Doc. 2026-03978 Filed 2-26-26; 8:45 am]

BILLING CODE 4140-01-P